DEPARTMENT OF HEALTH AND HUMAN SERVICES

Agency for Toxic Substances and Disease Registry

The Board of Scientific Counselors (BSC), Agency for Toxic Substances and Disease Registry

In accordance with section 10(a)(2) of the Federal Advisory Committee Act (Pub. L. 92-463), the Agency for Toxic Substances and Disease Registry (ATSDR) announces the following subcommittee and committee meetings.

Name: Board of Scientific Counselors, ATSDR.

Times and Dates: 1 p.m.-5:30 p.m., December 1, 2003; 8:30 a.m.-4:30 p.m., December 2, 2003.

Place: Hilton Atlanta Hotel, 255 Courtland Street, NE., Atlanta, Georgia 30303.

Status: Open to the public, limited by the available space. The meeting room accommodates approximately 100 people.

Purpose: The Board of Scientific Counselors, ATSDR, advises the Secretary, and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters To Be Discussed: The agenda items for the meeting will include, but are not limited to, an update and discussion on the consolidation of the National Center for Environmental Health (NCEH) and the Agency for Toxic Substances and Disease Registry (ATSDR); review of previous discussions for consolidating the Board of Scientific Counselors (BSC) for ATSDR and the Advisory Committee to the Director (ACD) for NCEH; a discussion on peer review background and process; introduction of the next two sessions on peer review; an overview of the National Exposure Registry; discussion of future role of BSC/ACD intramural program reviews, eligible programs for review, and program reviews in 2004; an overview of existing BSC and ACD subcommittees and working groups; review of the Community and Tribal Subcommittee Evaluation Report, Recommendations, and committee membership; discussion of the Social-Behavioral Science Workgroup's new strategic initiative; and a review of the Health Department Subcommittee on workforce development.

Agenda items are tentative and subject to change.

Contact Person for More Information: Robert Spengler, Sc.D., Executive Secretary, BSC, ATSDR, M/S E-28, 1600 Clifton Road, NE., Atlanta, Georgia 30333, telephone 404/498-0003.

The Director, Management Analysis and Services Office has been delegated the authority to sign Federal Register notices pertaining to announcements of meetings and other committee management activities, for both CDC and ATSDR.

Dated: November 4, 2003.
Alvin Hall,
Director, Management Analysis and Services Office, Centers for Disease Control and Prevention.

[FR Doc. 03-28160 Filed 11-7-03; 8:45 am]

BILLING CODE 4163-70-P